DEPARTMENT OF TRANSPORTATION

Federal Motor Carrier Safety Administration

[4910-EX-P]

Qualification of Drivers; Exemption Applications; Vision

AGENCY: Federal Motor Carrier Safety Administration (FMCSA), DOT.

ACTION: Notice of denials.

SUMMARY: FMCSA announces its denial of 115 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Elaine M. Papp, Chief, Medical Programs Division, 202-366-4001, U.S. Department of Transportation, FMCSA, 1200 New Jersey Avenue SE., Room W64-224, Washington, DC 20590-0001. Office hours are from 8:30 a.m. to 5 p.m. Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to or greater than the level that would be achieved absent such an exemption.” The procedures for requesting an exemption are set forth in 49 CFR part 381.

Accordingly, FMCSA evaluated 115 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

One applicant, Donald Dickerson, lacked sufficient driving experience during the 3-year period prior to the date of his application.

The following 21 applicants had no experience operating a CMV:

Michael Meke-Eze

David M. Krause

Michael R. Morgan

Alexander D. Avery

Alan J. Chmielews

Kevie D. Clark

Shatisha Y. Tharrinton

Garn J. Hickam

Mohamed Sannoh

Daniel Ponce

Amanda Upchurch

David W. Cox

Dean A. Saaranen

David L. Stout

Kasey L. Tanner

James J. Perkins

William N. Wheeler

Glen Stryker

Donald F. Evans

Frank Ferrara

Michael B. Timmins

The following 28 applicants did not have 3 years of experience driving a CMV on public highways with their vision deficiencies:

Russell Burden

Norvan Brown

Eddie R. Del Angel

George E. Gross

Wayne Figroid

Darrell E. Graumann

Heidi J. Morse

Ian D. Holbin

Boyd M. Kinzer, Jr.

Michael Hamm

Kenneth P. Nichols

Nicholas E. Lemaster

Terry Kenne

Brandon R. Ferguson

Dennis Yost

Alex P. Makhanov

Lonnie L. Tincher

Jessie A. Tanner

Gabirl A. Natale

Martin C. Baschab

Donald Hooper

Gregory Chiropolos

Ronnie G. Lynn

Malinda N. Parks

Mark Smith

Stephen C. Linardos

Dani A. Alvarez

Shawn L. Smith

The following 12 applicants did not have 3 years of recent experience driving a CMV with the vision deficiency:

Joshua H. Boatright

Domingo V. Perez

James F. Blush

Dean L. Christenson

George R. Boutin

Eugene P. Fournier

Rudolph J. McPhearson

Saint Marc Louis

Edgar Daye

Anthony Bartel

Ronald Bounds

Paul L. Baker

The following 7 applicants did not have sufficient driving experience during the past 3 years under normal highway operating conditions:

Steve Volden

Alan D. Mohoric

Victor Kitchen

Michael E. Mellon

Cesar Villa

Larry Allen

Terry Blair

The following 4 applicants had their commercial driver's license suspended during the 3-year review period for moving violations. Applicants do not qualify for an exemption with a suspension during the 3-year period:

William C. Pinson

Wayne L. Green

Stephen R. Marshall

James A. Fassbender

The following 6 applicants were denied for miscellaneous/multiple reasons:

Paul Kissner, Jr.

Nery Madera

Richard Wilson

David Traylor

Lucio Nieves

Dewey W. Justice

The following applicant, William J. Hoitsma, Jr., was denied because his vision was not stable for the entire 3-year period.

The following applicant, Kentucky J. Coby, was denied because he does not meet the vision standard in the better eye.

The following 9 applicants met the current federal vision standards. Exemptions are not required for applicants who meet the current regulations for vision:

Richard Kreye

Virgil L. Adams

Hamidullah Khan

Victor Ramirez

Dale Crumb

Henry DeLaRosa

David M. Taylor

Dwight Hicks

Robert H. White

The following 19 applicants were denied because they will not be driving interstate, interstate commerce, or not required to carry a DOT medical card:

Ronald Baker

Lee H. Freeman, Jr.

Ronald R. Detwiler

Diana L. Bartlow

Akbar Roohani

Danny Michael Harris

Richard Karbo

Mark Birkins

Marshall J. Desadier

Jason Butcher

Michael Layher

James Troxler

Sebastian G. Jachymiak

Joel G. Allard

Donald D. Barnett, Jr.

Brent A. Torrey

Harold Johnson

Thomas B. Bliven

Tomas J. Ortega

Finally, the following 7 applicants perform transportation for the federal government, state, or any political sub-division of the state.

William M. Bugbee

Albert E. Richan

Gregory K. Moon

Joseph Okolowski

Gary S. Carrol

Charlie C. Kimmel

Julianne M. Kaeser

Issued on: February 22, 2012.
Larry W. Minor,
Associate Administrator for Policy.

[FR Doc. 2012-4870 Filed 2-28-12; 8:45 am]

BILLING CODE 4910-EX-P